DEPARTMENT OF JUSTICE

Drug Enforcement Administration

Manufacturer of Controlled Substances, Notice of Application

Pursuant to Section 1301.33(a) of Title 21 of the Code of Federal Regulations (CFR), this is notice that on December 12, 2000, Johnson Matthey, Inc., Custom Pharmaceuticals Department, 2003 Nolte Drive, West Deptford, New Jersey 08066, made application by renewal to the Drug Enforcement Administration (DEA) for registration as a bulk manufacturer of the basic classes of controlled substances listed below:

Drug | Schedule
Tetrahydrocannabinols (7370) | I
Difenoxin (9168) | I
Propriam (9649) | I
Amphetamine (1100) | II
Methylphenidate (1724) | II
Anileridine (9020) | II
Codeine (9050) | II
Oxycodone (9143) | II
Hydromorphone (9150) | II
Hydrocodone (9193) | II
Meperidine (9230) | II
Morphine (9300) | II
Thebaine (9333) | II
Alfentanil (9737) | II
Sufentanil (9740) | II
Fentanyl (9801) | II

The firm plans to manufacture the listed controlled substances in bulk to supply final dosage from manufacturers.

Any other such applicant and any person who is presently registered with DEA to manufacture such substances may file comment or objections to the issuance of the proposed registration.

Any such comments or objections may be addressed, in quintuplicate, to the Deputy Assistant Administrator, Office of Diversion Control, Drug Enforcement Administration, United States Department of Justice, Washington, DC 20537, Attention: DEA Federal Register Representative (CCR), and must be filed no later than (60 days from publication).

Dated: July 13, 2001.
Laura M. Nagel,
Deputy Assistant Administrator, Office of Diversion Control, Drug Enforcement Administration.

[FR Doc. 01-18218 Filed 7-20-01; 8:45 am]

BILLING CODE 4410-09-M